GENERAL SERVICES ADMINISTRATION

[OMB Control No. 3090-0286; Docket 2015-0001; Sequence 14]

General Services Administration Acquisition Regulation; Submission for OMB Review; GSA Mentor-Protégé Program

AGENCIES: Office of the Chief Acquisition Officer, General Services Administration (GSA).

ACTION: Notice of request for public comments regarding an extension to an existing OMB clearance.

SUMMARY: Under the provisions of the Paperwork Reduction Act, the Regulatory Secretariat Division will be submitting to the Office of Management and Budget (OMB) a request to review and approve a previously approved information collection concerning the GSA Mentor-Protégé Program, in the General Services Administration Acquisition Manual (GSAM). A notice was published in the Federal Register at 80 FR 27310 on May 13, 2015. One comment was received.

DATES: Submit comments on or before September 4, 2015.

ADDRESSES: Submit comments identified by Information Collection 3090-0286, GSA Mentor-Protégé Program by any of the following methods:

• Regulations.gov: http://www.regulations.gov.

Submit comments via the Federal eRulemaking portal by searching the OMB control number. Follow the instructions provided at the “Submit a Comment” screen. Please include your name, company name (if any), and “Information Collection 3090-0286, GSA Mentor-Protégé Program” on your attached document.

• Mail: General Services Administration, Regulatory Secretariat Division (MVCB), 1800 F Street NW., Washington, DC 20405. ATTN: Ms. Flowers/IC 3090-0286, GSA Mentor-Protégé Program.

Instructions: Please submit comments only and cite Information Collection 3090-0286, GSA Mentor-Protégé Program, in all correspondence related to this collection. All comments received will be posted without change to http://www.regulations.gov, including any personal and/or business confidential information provided.

FOR FURTHER INFORMATION CONTACT: Ms. Christina Mullins, Procurement Analyst, General Services Acquisition Policy Division, GSA, 202-969-4066 or email christina.mullins@gsa.gov.

SUPPLEMENTARY INFORMATION:

A. Purpose

The GSA Mentor-Protégé Program is designed to encourage GSA prime contractors to assist small businesses, small disadvantaged businesses, women-owned small businesses, veteran-owned small businesses, service-disabled veteran-owned small businesses, and HUBZone small businesses in enhancing their capabilities to perform GSA contracts and subcontracts, foster the establishment of long-term business relationships between these small business entities and GSA prime contractors, and increase the overall number of small business entities that receive GSA contract and subcontract awards.

B. Discussion and Analysis

One comment was received from the Center for Equal Opportunity. The comment suggests that the GSA Mentor-Protégé Program use neither preferences nor classifications on the basis of race, ethnicity, or sex. The program does not distinguish firms on the basis of race or ethnicity. Women-owned small business firms may be distinguished as this is a small business category recognized by statute through the Small Business Act (15 U.S.C. Chapter 14a). This notice regards the information collection related to administering the GSA Mentor-Protégé Program. Any changes to the program itself would be handled separately through the rulemaking process.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

C. Annual Reporting Burden

Respondents: 254.

Responses per Respondent: 4.

Total Annual Responses: 1,016.

Hours per Response: 3.

Total Burden Hours: 3,048.

Obtaining Copies of Proposals: Requesters may obtain a copy of the information collection documents from the General Services Administration, Regulatory Secretariat Division (MVCB), 1800 F Street NW., Washington, DC 20405, telephone 202-501-4755. Please cite OMB Control No. 3090-0286, GSA Mentor-Protégé Program, in all correspondence.

Dated: July 30, 2015.
Jeffrey A. Koses,
Director, Office of Acquisition Policy & Senior Procurement Executive.

[FR Doc. 2015-19224 Filed 8-4-15; 8:45 am]

BILLING CODE 6820-61-P